NATIONAL AERONAUTICS AND SPACE ADMINISTRATION

48 CFR Part 1852

RIN: 2700-AD20

Property Administration and Reporting for Interagency Acquisitions

AGENCY: National Aeronautics and Space Administration.

ACTION: Final rule.

SUMMARY: This is a final rule to amend the NASA FAR Supplement (NFS) to revise clause 1852.217-70 Property Administration and Reporting to change the name of “NASA-Defense Purchase Request” to “NASA-Interagency Purchase Request” and to replace the term “Military Department” to “servicing agency” in order to permit the use of this clause in interagency acquisitions with military departments and civilian agencies.

DATES: Effective Date: December 15, 2005.

FOR FURTHER INFORMATION CONTACT: Marilyn J. Seppi, NASA, Office of Procurement, Contract Management Division; (703) 553-2551; e-mail: Marilyn.Seppi-1@nasa.gov.

SUPPLEMENTARY INFORMATION:

A. Background

This is a final rule to amend the NASA FAR Supplement (NFS) to revise clause 1852.217-70 Property Administration and Reporting to change the name of “NASA-Defense Purchase Request” to “NASA-Interagency Purchase Request” and to change the term “Military Department” to “servicing agency” in order to permit the use of this clause in interagency acquisitions with military departments and civilian agencies. This change is necessary to instruct NASA Centers to use the NASA-Interagency Purchase Request (NF-523) in all interagency acquisitions with civilian agencies and military departments. Currently, the NFS only provides the use of this clause for interagency acquisitions with Military Departments and does not address whether this clause should be utilized in interagency acquisitions with Civilian Agencies. This change is necessary to provide guidance when contracting for supplies and services with civilian agencies.

This is not a significant regulatory action and, therefore, was not subject to review under section 6(b) of Executive Order 12866, Regulatory Planning and Review, dated September 30, 1993. This rule is not a major rule under 5 U.S.C. 804.

B. Regulatory Flexibility Act

This final rule is not expected to have a significant economic impact on a substantial number of small entities with the meaning of the Regulatory Flexibility Act, 5 U.S.C. 601, et seq., because this action does not have any affect on the private business sector it only affects interagency transactions with other government agencies, military departments, and civilian agencies.

C. Paperwork Reduction Act

This final rule does not contain information collection requirements subject to the Paperwork Reduction Act of 1995 (44 U.S.C. 3501-3520) does not apply. All comments regarding information collection should be sent to: Desk Officer for NASA; Office of Information and Regulatory Affairs, Office of Management and Budget, Room 10236, New Executive Office Building; Washington, DC 20503.

List of Subjects in 48 CFR Part 1852

Government Procurement.

Tom Luedtke,
Assistant Administrator for Procurement.

Accordingly, 48 CFR part 1852 is amended as follows:

PART 1852—SOLICITATION PROVISIONS AND CONTRACT CLAUSES

1. The authority citation for 48 CFR part 1852 continues to read as follows:

Authority: 42 U.S.C. 2473(c)(1)

2. Revise section 1852.217-70 to read as follows:

1852.217-70 Property Administration and Reporting.

As prescribed in 1817.7004-7 and 1817.7005-4, insert the following clause:

Property Administration and Reporting (DEC 2005)

All property acquired for, and reimbursed by, NASA or transferred by NASA for use under this NASA-Interagency Purchase Request shall be controlled and accounted for in accordance with the servicing agency's normal procedures. All excess items, however, costing $500 or more and in condition Code 7 or better (GSA Condition Codes) shall be reported to the NASA originating office for possible reutilization before disposition.

(End of clause)

[FR Doc. 05-23993 Filed 12-14-05; 8:45 am]

BILLING CODE 7510-01-P